DEPARTMENT OF JUSTICE

Executive Office for Immigration Review

8 CFR Part 1208

Procedures for Asylum and Withholding of Removal

CFR Correction

In Title 8 of the Code of Federal Regulations, revised as of January 1, 2013, on page 885, in § 1208.13, paragraph (c)(2)(ii) is moved to after paragraph (c)(2)(i)(F).

[FR Doc. 2013-17394 Filed 7-17-13; 8:45 am]

BILLING CODE 1501-01-D